DEPARTMENT OF EDUCATION

[CFDA No.: 84.317]

Comprehensive Local Reform Assistance; Notice Inviting Applications From Local Educational Agencies (LEAs) in Montana and Oklahoma for New Awards With Fiscal Year (FY) 1999 and FY 2000 Funds Under the Goals 2000: Educate America Act

Note to Applicants: This notice is a complete application package. Together with the statute authorizing the program and the Education Department General Administrative Regulations (EDGAR), the notice contains all of the information, application requirements, and instructions needed to apply for a grant under this competition.

Purpose of Program: To assist local educational agencies (LEAs) in the development and implementation of comprehensive local improvement plans directed at enabling all children to reach challenging academic standards.

Eligible Applicants: LEAs in Oklahoma and Montana are eligible to apply for grants. The Secretary is especially interested in receiving applications from consortia of LEAs in each State.

LEAs or consortia of LEAs in Oklahoma and Montana that have previously received Goals 2000 funds are eligible to apply for funds under this competition. However, in order that other needy districts may benefit from Goals 2000 support, the Secretary is particularly interested in receiving applications from LEAs or consortia that have not previously received Goals 2000 funding.

Note: This competition, authorized by section 304(e) of the Goals 2000: Educate America Act, is only for LEAs in Oklahoma and Montana. LEAs in other States apply to their respective State educational agency for funds under Title III of Goals 2000.

Applications Available: February 15, 2000.

Deadline for Transmittal of Applications: March 15, 2000.

Deadline for Intergovernmental Review: May 14, 2000.

Available Funds: For LEAs in Oklahoma: $5,410,428 in FY 1999; $5,376,407 (estimated) in FY 2000; For LEAs in Montana: $1,890,358 in FY 1999; $1,878,472 (estimated) in FY 2000.

In the event that there are an insufficient number of funded applications to use all of either State's allotment, the Secretary may reallot the remaining funds consistent with the Act.

The Secretary does not intend to conduct competitions for FY 2000 funds. Instead, pursuant to 34 CFR 75.253, the Secretary intends to make continuation awards from the FY 2000 allotments to each grantee that has made substantial progress toward meeting the objectives in its approved application.

Project Period: Up to 24 months.

Estimated Range of Awards: $30,000-$750,000 annually.

The sizes of the awards requested should be governed by the size of the LEA or consortium and the scope of the proposed project. The Secretary will consider each applicant's request and the needs of all successful applicants in determining the amount of each grant award. The Department of Education is not bound by the estimates in this notice.

Estimated Average Size of FY 1999 and FY 2000 Awards: $109,000 annually.

Estimated Numbers of Awards: 40 in Oklahoma; 20 in Montana.

Note: Consistent with section 309(c) of the Goals 2000 Act, the Secretary will award at least 50 percent of each State's available allotment to LEAs that have a greater percentage or number of disadvantaged children than the statewide average percentages or numbers for all LEAs in each respective State. The Department may waive this provision if it does not receive a sufficient number of applications from such districts.

Applicable Regulations: The Education Department General Administrative Regulations (EDGAR) as follows:

(1) 34 CFR part 75 (Direct Grant Programs).

(2) 34 CFR part 77 (Definitions that Apply to Department Regulations).

(3) 34 CFR part 79 (Intergovernmental Review of Department of Education Programs and Activities).

(4) 34 CFR part 80 (Uniform Administrative Requirements for Grants and Cooperative Agreements to State and Local Governments).

(5) 34 CFR part 81 (General Education Provisions Act—Enforcement).

(6) 34 CFR part 82 (New Restrictions on Lobbying).

(7) 34 CFR part 85 (Governmentwide Debarment and Suspension (Nonprocurement) and Governmentwide Requirements for Drug-Free Workplace (Grants)).

GEPA Section 427 Requirements: In preparing applications, LEAs should pay particular attention to the requirements in section 427 of the General Education Provisions Act (GEPA), as detailed later in this notice. Applicants must address the requirements in section 427 in order to receive funding under this competition. Section 427 requires each applicant to describe the steps it proposes to take to address one or more barriers (i.e., gender, race, national origin, color, disability, or age) that can impede equitable access to, or participation in, the program. A restatement of compliance with civil rights requirements is not sufficient to meet the GEPA 427 requirements.

SUPPLEMENTARY INFORMATION:

(a) Background

Section 304(e) of the Goals 2000: Educate America Act (Pub. L. 103-227) (20 U.S.C. 5801 et seq.) (the Act) authorizes the Secretary to award direct grants to LEAs in States that were not participating in Goals 2000 as of October 20, 1995, if the applicable SEA approves the LEAs' participation in the program. Oklahoma and Montana were not participating in Goals 2000 as of that date, and the Oklahoma and Montana SEAs have approved LEA participation in this direct grant program.

The Secretary has determined that grants awarded under section 304(e) will be used to support the development and implementation of comprehensive local improvement plans designed to help all children reach challenging academic standards. In particular, the Secretary encourages LEAs to address in their applications how their reform strategies might include enhanced preservice teacher education and professional development activities of educators that are directly connected to challenging standards.

Applicants that have already developed comprehensive improvement plans may propose activities funded through the grant that are aligned with and carry out parts of this plan. Where appropriate, LEAs should use funds awarded under this notice to build upon comprehensive reform strategies that have already been initiated with federal and other resources.

Application Requirements

The authorizing statute—section 304(e) of the Act—permits the Secretary to fund LEA applications that are consistent with the provisions of Goals 2000. Grants under this competition will support the development and implementation of comprehensive local improvement plans to help all students reach challenging academic standards. Local improvement plans that are developed or implemented with funds awarded under section 304(e) must be consistent with the requirements in sections 309(a)(3) (B) through (E) of the Act. Adapted to this direct grant program, these requirements specify that local plans—

(1) Describe a process of broad-based community participation in the development, implementation, and evaluation of the local improvement plan;

(2) Address districtwide education improvement, directed at enabling all students to meet the State content standards and State student performance standards, including specific goals and benchmarks; reflect the priority of the State improvement plan (if there is a comprehensive State improvement plan) and include a strategy for—

(a) Improving teaching and learning, with strategies such as enhanced professional development and preservice education activities aligned to the standards;

(b) Improving governance, management, and accountability for performance; and

(c) Generating, maintaining, and strengthening parental and community involvement;

(3) Promote the flexibility of local schools in developing plans that address the particular needs of their school and community and are consistent with the local improvement plan; and

(4) Describe how the LEA will encourage and assist schools to develop and implement comprehensive school improvement plans that focus on helping all students reach State content standards and student performance standards.

An LEA that applies for funds under this program should indicate whether funds are being requested to (a) develop and implement a plan in accordance with the requirements of sections 309(a)(3) (B) through (E) of the Act; or (b) implement an existing comprehensive improvement plan that meets the requirements of sections 309(a)(3) (B) through (E) of the Act. (An applicant that received FY 1995 and 1996 funding or FY 1997 and 1998 funding under the previous two competitions must have completed the development of a plan that meets the stated requirements in order to be eligible for funding under this competition.)

An LEA seeking funds to both develop and implement a comprehensive plan must demonstrate evidence of a clear process that will result in a plan that meets the stated plan requirements. This evidence may include a description of how stakeholders will be involved in plan development and specific steps and timelines for developing the plan. Successful applicants will only be eligible to receive FY 2000 continuation funding if they have completed development of a plan that meets the plan requirements stated above.

An LEA that has already developed a comprehensive improvement plan may seek FY 1999 and 2000 funds to implement the plan. The applicant must demonstrate that its existing plan meets the plan requirements listed above. The applicant may do this, for example, by providing a description of how its plan addresses these requirements and the progress the applicant has made in implementing its plan. In addition, the applicant may demonstrate the comprehensiveness of the plan by providing evidence that the plan is coordinated with other LEA plans that, collectively, provide a framework for how federal and other funds are used to achieve the goals and objectives of the district.

An applicant should clearly explain the strategies that will be funded under this award and how these strategies are aligned with the comprehensive plan.

The Secretary recommends that applicants reserve in their budgets approximately $2,000 each year for activities that will be designed by the Secretary, in conjunction with grantees, to facilitate the sharing among grantees of information on successful comprehensive reform strategies.

Selection Criteria

The Secretary will use the following selection criteria and factors from 34 CFR 75.210 to evaluate applications under this competition.

The maximum score for all of the criteria is 100 points. The maximum score for each criterion is indicated in parenthesis with the criterion. The criteria and factors are as follows:

(1) Need for the project. (20 points)

(a) The Secretary considers the need for the proposed project.

(b) In determining the need for the proposed project, the Secretary considers the following factors:

(i) The extent to which the proposed project will provide services to or otherwise address the needs of students at risk of educational failure.

(ii) The extent to which specific gaps or weaknesses in services, infrastructure, or opportunities have been identified and will be addressed by the proposed project, including the nature and magnitude of those gaps or weaknesses.

(2) Quality of the project design. (33 points)

(a) The Secretary considers the quality of the design of the proposed project.

(b) In determining the quality of the design of the proposed project, the Secretary considers the following factors:

(i) The extent to which the proposed project is part of a comprehensive effort to improve teaching and learning and support rigorous academic standards for students.

(ii) The extent to which the proposed project will be coordinated with similar or related efforts, and with other appropriate community, State, and Federal resources.

(iii) The extent to which the proposed project is designed to build capacity and yield results that will extend beyond the period of Federal financial assistance.

(iv) The extent to which the goals, objectives, and outcomes to be achieved by the proposed project are clearly specified and measurable.

(3) Quality of project services. (15 points)

(a) The Secretary considers the quality of the services to be provided by the proposed project.

(b) In determining the quality of the services to be provided by the proposed project, the Secretary considers the quality and sufficiency of strategies for ensuring equal access and treatment for eligible project participants who are members of groups that have traditionally been underrepresented based on race, color, national origin, gender, age, or disability.

(c) In addition, the Secretary considers the following factors:

(i) The likelihood that the services to be provided by the proposed project will lead to improvements in the achievement of students as measured against rigorous academic standards.

(ii) The extent to which the services to be provided by the proposed project are focused on those with greatest needs.

(iii) The extent to which the services to be provided by the proposed project reflect up-to-date knowledge from research and effective practice.

(4) Quality of project personnel. (5 points)

(a) The Secretary considers the quality of the personnel who will carry out the proposed project.

(b) In determining the quality of project personnel, the Secretary considers the extent to which the applicant encourages applications for employment from persons who are members of groups that have traditionally been underrepresented based on race, color, national origin, gender, age, or disability.

(c) In addition, the Secretary considers the qualifications, including relevant training and experience, of key project personnel.

(5) Adequacy of resources. (5 points)

(a) The Secretary considers the adequacy of resources for the proposed project.

(b) In determining the adequacy of resources for the proposed project, the Secretary considers the following factors:

(i) The adequacy of support, including facilities, equipment, supplies, and other resources, from the applicant organization or the lead applicant organization.

(ii) The extent to which the costs are reasonable in relation to the objectives, design, and potential significance of the proposed project.

(iii) The potential for the incorporation of project purposes, activities, or benefits into the ongoing program of the agency or organization at the end of Federal funding.

(6) Quality of the management plan. (7 points)

(a) The Secretary considers the quality of the management plan for the proposed project.

(b) In considering the quality of the management plan for the proposed project, the Secretary considers the following factors:

(i) The adequacy of the management plan to achieve the objectives of the proposed project on time and within budget, including clearly defined responsibilities, timelines, and milestones for accomplishing project tasks.

(ii) The adequacy of mechanisms for ensuring high-quality products and services from the proposed project.

(iii) How the applicant will ensure that a diversity of perspectives are brought to bear in the operation of the proposed project, including those of parents, teachers, the business community, a variety of disciplinary and professional fields, recipients or beneficiaries of services, or others, as appropriate.

(7) Quality of the project evaluation. (15 points)

(a) The Secretary considers the quality of the evaluation to be conducted of the proposed project.

(b) In determining the quality of the evaluation, the Secretary considers the following factors:

(i) The extent to which the methods of evaluation include the use of objective performance measures that are clearly related to the intended outcomes of the project and will produce quantitative and qualitative data to the extent possible.

(ii) The extent to which the methods of evaluation will provide performance feedback and permit periodic assessment of progress toward achieving intended outcomes.

(Note: In designing their evaluation plans, applicants are encouraged to consider the sample performance measures included in this package)

Intergovernmental Review of Federal Programs:

This program is subject to the requirements of Executive order 12372 (Intergovernmental Review of Federal Programs) and the regulations in 34 CFR Part 79. The objective of the Executive order is to foster an intergovernmental partnership and to strengthen federalism by relying on State processes and on State, areawide, regional, and local coordination for review of proposed Federal financial assistance.

Neither Oklahoma nor Montana has adopted State intergovernmental review processes. Therefore, State, areawide, regional, and local entities may submit comments directly to the Department.

Any comments submitted pursuant to the executive order must be mailed or hand-delivered by the date indicated in this notice to the following address: The Secretary, E.O. 12372—CFDA# 84.317, U.S. Department of Education, Room 7E200, 400 Maryland Avenue, SW, Washington, DC 20202-0125.

Proof of mailing will be determined on the same basis as applications (see 34 CFR 75.102). Recommendations or comments may be hand-delivered until 4:30 p.m. (EST) on the date indicated in this notice.

PLEASE NOTE THAT THE ABOVE ADDRESS IS NOT THE SAME ADDRESS AS THE ONE TO WHICH THE APPLICANT SUBMITS ITS COMPLETED APPLICATION. DO NOT SEND APPLICATIONS TO THE ABOVE ADDRESS.

Instructions for Transmittal of Applications

(a) If an applicant wants to apply for a grant, the applicant must—

(1) Mail the original and three copies of the application on or before the deadline date to: U. S. Department of Education, Application Control Center, Attention: (CFDA # 84.317), Washington, DC 20202-4725

or

(2) Hand deliver the original and three copies of the application by 4:30 p.m. (Washington, DC time) on the deadline date to: U.S. Department of Education, Application Control Center, Attention: (CFDA# 84.317), Room #3633, Regional Office Building #3, 7th and D Streets, SW, Washington, DC.

(b) An applicant must show one of the following as proof of mailing:

(1) A legibly dated U.S. Postal Service postmark.

(2) A legible mail receipt with the date of mailing stamped by the U.S. Postal Service.

(3) A dated shipping label, invoice, or receipt from a commercial carrier.

(4) Any other proof of mailing acceptable to the Secretary.

(c ) If an application is mailed through the U.S. Postal Service, the Secretary does not accept either of the following as proof of mailing:

(1) A private metered postmark.

(2) A mail receipt that is not dated by the U.S. Postal Service.

Notes: (1) The U.S. Postal Service does not uniformly provide a dated postmark. Before relying on this method, an applicant should check with its local post office.

(1) The Application Control Center will mail a Grant Application Receipt Acknowledgment to each applicant. If an applicant fails to receive the notification of application receipt within 15 days from the date of mailing the application, the applicant should call the U.S. Department of Education Application Control Center at (202) 708-9494.

(2) The applicant must indicate on the envelope and in Item 10 of the Application for Federal Assistance (Standard Form 424) the CFDA number of the competition under which the application is being submitted (CFDA# 84.317).

Application Instructions and Forms

The appendix to this application is divided into three parts, plus a statement regarding estimated public reporting burden and various assurances and certifications. These parts and additional materials are organized in the same manner that the submitted application should be organized. The parts and additional materials are as follows:

Part I: Application for Federal Assistance (Standard Form 424 (Rev. 4-88)) and instructions.

Part II: Budget Information—Non-Construction Programs (Standard Form 524) and instructions.

Part III: Application Narrative.

Additional Materials

Estimated Public Reporting Burden. Assurances—Non-Construction Programs (Standard Form 424B).

Certifications regarding Lobbying; Debarment, Suspension, and Other Responsibility Matters; and Drug-Free Workplace Requirements (ED 80-0013).

Certification regarding Debarment, Suspension, Ineligibility and Voluntary Exclusion: Lower Tier Covered Transactions (ED 80-0014, 9/90) and instructions.

(Note: ED 80-0014 is intended for the use of grantees and should not be transmitted to the Department)

Disclosure of Lobbying Activities (Standard Form LLL) (if applicable) and instructions.

GEPA Section 427 Notice to All Applicants.

An applicant may submit information on a photostatic copy of the application and budget forms, the assurances, and the certifications. However, the application form, the assurances, and the certifications must each have an original signature. No grant may be awarded unless a completed application form has been received.

FOR FURTHER INFORMATION CONTACT: Marcia J. Kingman, U.S. Department of Education, 400 Maryland Avenue, SW, Washington, DC 20202-6400, Telephone: (202) 401-0039, FAX: (202) 205-5870. This contact may also be reached via e-mail at marcia_kingman@ed.gov. Individuals who use a telecommunications device for the deaf (TDD) may call the Federal Information Relay Service (FIRS) at 1-800-877-8339 between 8 a.m. and 8 p.m., Eastern time.

Individuals with disabilities may obtain this document in an alternate format (e.g., Braille, large print, audiotape, or computer diskette) on request to the contact person listed in the preceding paragraph.

Individuals with disabilities may obtain a copy of the application package in an alternate format, also, by contacting that person. However, the Department is not able to reproduce in an alternate format the standard forms included in the application package.

Electronic Access To This Document

You may view this document, as well as all other Department of Education documents published in the Federal Register, in text or Adobe Portable Document Format (PDF) on the Internet at either of the following sites:

http://ocfo.ed.gov/fedreg.htm

http://www.ed.gov/news.html

To use the PDF, you must have the Adobe Acrobat Reader Program with Search, which is available free at either of the previous sites. If you have questions about using the PDF, call the U.S. Government Printing Office (GPO), toll free at 1-888-293-6498; or in the Washington, DC area at (202) 512-1530.

Note: The official version of this document is the document published in the Federal Register. Free Internet access to the official edition of the Federal Register and the Code of Federal Regulations is available on GPO Access at: http://www.access.gpo.gov/nara/index.html

Program Authority: Section 304(e) of the Goals 2000: Educate America Act, 20 USC 5884(b).

Dated: February 9, 2000.
Michael Cohen,
Assistant Secretary for Elementary and Secondary Education.

BILLING CODE 4000—01—U

BILLING CODE 4000-01-C

Instructions for Completion of SF-LLL, Disclosure of Lobbying Activities

This disclosure form shall be completed by the reporting entity, whether subawardee or prime Federal recipient, at the initiation or receipt of a covered Federal action, or a material change to a previous filing, pursuant to title 31 U.S.C. section 1352. The filing of a form is required for each payment or agreement to make payment to any lobbying entity for influencing or attempting to influence an officer or employee of any agency, a Member of Congress, an officer or employee of Congress, or an employee of a Member of Congress in connection with a covered Federal action. Complete all items that apply for both the initial filing and material change report. Refer to the implementing guidance published by the Office of Management and Budget for additional information.

1. Identify the type of covered Federal action for which lobbying activity is and/or has been secured to influence the outcome of a covered Federal action.

2. Identify the status of the covered Federal action.

3. Identify the appropriate classification of this report. If this is a followup report caused by a material change to the information previously reported, enter the year and quarter in which the change occurred. Enter the date of the last previously submitted report by this reporting entity for this covered Federal action.

4. Enter the full name, address, city, State and zip code of the reporting entity. Include Congressional District, if known. Check the appropriate classification of the reporting entity that designates if it is, or expects to be, a prime or subaward recipient. Identify the tier of the subawardee, e.g., the first subawardee of the prime is the 1st tier. Subawards include but are not limited to subcontracts, subgrants and contract awards under grants.

5. If the organization filing the report in item 4 checks “Subawardee,” then enter the full name, address, city, State and zip code of the prime Federal recipient. Include Congressional District, if known.

6. Enter the name of the federal agency making the award or loan commitment. Include at least one organizational level below agency name, if known. For example, Department of Transportation, United States Coast Guard.

7. Enter the Federal program name or description for the covered Federal action (item 1). If known, enter the full Catalog of Federal Domestic Assistance (CFDA) number for grants, cooperative agreements, loans, and loan commitments.

8. Enter The most appropriate Federal identifying number available for the Federal action identified in item 1 (e.g., Request for Proposal (RFP) number; Invitations for Bid (IFB) number; grant announcement number; the contract, grant, or loan award number; the application/proposal control number assigned by the Federal agency). Included prefixes, e.g., “RFP-DE-90-001.”

9. For a covered federal action where there has been an award or loan commitment by the Federal agency, enter the Federal amount of the award/loan commitment for the prime entity identified in item 4 or 5.

10. (a) Enter the full name, address, city, State and zip code of the lobbying registrant under the Lobbying Disclosure Act of 1995 engaged by the reporting entity identified in item 4 to influence the covered Federal action.

(b) Enter the full names of the individual(s) performing services, and include full address if different from 10(a). Enter Last Name, First Name, and Middle Initial (MI).

11. The certifying official shall sign and date the form, print his/her name, title, and telephone number.

According to the Paperwork Reduction Act, as amended, no persons are required to respond to a collection of information unless it displays a valid OMB control number. The valid OMB control number for this information collection is OMB No. 0348-0046. Public reporting burden for this collection of information is estimated to average 10 minutes per response, including time for reviewing instructions, searching existing data sources, gathering and maintaining the data needed, and completing and reviewing the collection of information. Send comments regarding the burden estimate or any other aspect of this collection of information, including suggestions for reducing this burden, to the Office of Management and Budget, Paperwork Reduction Project (0348-0046), Washington, DC 20503.

Notice to All Applicants

The purpose of this enclosure is to inform you about a new provision in the Department of Education's General Education Provisions Act (GEPA) that applies to applicants for new grant awards under Department programs. This provision is Section 427 of GEPA, enacted as part of the Improving America's Schools Act of 1994 (Pub. L. 103-382).

To Whom Does This Provision Apply?

Section 427 of GEPA affects applicants for new grant awards under this program. ALL APPLICANTS FOR NEW AWARDS MUST INCLUDE INFORMATION IN THEIR APPLICATIONS TO ADDRESS THIS NEW PROVISION IN ORDER TO RECEIVE FUNDING UNDER THIS PROGRAM.

(If this program is a State-formula grant program, a State needs to provide this description only for projects or activities that it carries out with funds reserved for State-level uses. In addition, local school districts or other eligible applicants that apply to the State for funding need to provide this description in their applications to the State for funding. The State would be responsible for ensuring that the school district or other local entity has submitted a sufficient section 427 statement as described below.)

What Does This Provision Require?

Section 427 requires each applicant for funds (other than an individual person) to include in its application a description of the steps the applicant proposes to take to ensure equitable access to, and participation in, its Federally-assisted program for students, teachers, and other program beneficiaries with special needs. This provision allows applicants discretion in developing the required description. The statute highlights six types of barriers that can impede equitable access or participation: gender, race, national origin, color, disability, or age. Based on local circumstances, you should determine whether these or other barriers may prevent your students, teachers, etc. from such access or participation in, the Federally-funded project or activity. The description in your application of steps to be taken to overcome these barriers need not be lengthy; you may provide a clear and succinct description of how you plan to address those barriers that are applicable to your circumstances. In addition, the information may be provided in a single narrative, or, if appropriate, may be discussed in connection with related topics in the application.

Section 427 is not intended to duplicate the requirements of civil rights statutes, but rather to ensure that, in designing their projects, applicants for Federal funds address equity concerns that may affect the ability of certain potential beneficiaries to fully participate in the project and to achieve to high standards. Consistent with program requirements and its approved application, an applicant may use the Federal funds awarded to it to eliminate barriers it identifies.

What Are Examples of How an Applicant Might Satisfy the Requirement of This Provision?

The following examples may help illustrate how an applicant may comply with Section 427.

(1) An applicant that proposes to carry out an adult literacy project serving, among others, adults with limited English proficiency, might describe in its application how it intends to distribute a brochure about the proposed project to such potential participants in their native language.

(2) An applicant that proposes to develop instructional materials for classroom use might describe how it will make the materials available on audio tape or in braille for students who are blind.

(3) An applicant that proposes to carry out a model science program for secondary students and is concerned that girls may be less likely than boys to enroll in the course, might indicate how it intends to conduct “outreach” efforts to girls, to encourage their enrollment.

We recognize that many applicants may already be implementing effective steps to ensure equity of access and participation in their grant programs, and we appreciate your cooperation in responding to the requirements of this provision.

Estimated Burden Statement for GEPA Requirements

The time required to complete this information collection is estimated to vary from 1 to 3 hours per response, with an average of 1.5 hours, including the time to review instructions, search existing data resources, gather and maintain the data needed, and complete and review the information collection. If you have any comments concerning the accuracy of the time estimate(s) or suggestions for improving this form, please write to: U.S. Department of Education, Washington, DC 20202-4651.

Paperwork Burden Statement

According to the Paperwork Reduction Act of 1995, no persons are required to respond to a collection of information unless such collection displays a valid OMB control number. The valid OMB control number for this information collection is 1810-0594. The time required to complete this information collection is estimated to average 30 hours (or minutes) per response, including the time to review instructions, search existing data resources, gather the data needed, and complete and review the information collection. If you have any comments concerning the accuracy of the time estimate(s) or suggestions for improving this form, please write to: U.S. Department of Education, Washington, DC 20202-4651. If you have comments or concerns regarding the status of your individual submission of this form, write directly to: Goals 2000, U.S. Department of Education, 400 Maryland Avenue, SW, FOB-6 Room 3E213, Washington, DC 20202-6400.

Instructions for Part III: Application Narrative

Before preparing the Application Narrative, an applicant should read carefully the description of the program, the background of the program, application requirements, and the selection criteria the Secretary will use to evaluate these applications.

The narrative should encompass each function or activity for which funds are being requested and should—

1. Begin with an Abstract that summarizes the proposed project;

2. Describe the proposed project in light of the application requirements and each of the selection criteria in the order in which the criteria are listed in the application; and

3. Include any other pertinent information that might assist the Secretary in reviewing the application.

The Secretary strongly requests the applicant to limit the Application Narrative to no more than 20 pages (double-spaced, typed on one-side only, using font no smaller than 11 point). The Department has found that successful applications for similar programs generally meet this page limit. In addition to the Application Narrative, the applicant must include the cover form (SF-424), budget forms and budget narrative, assurances, and a statement regarding how the application meets the requirements of GEPA 427. Any supplemental attachments should be limited to those that are crucial to supporting the integrity of the applicant's project and how it has met application requirements.

Performance Measures

The Government Performance and Results Act (GPRA) of 1993 places new management expectations and requirements on Federal departments and agencies by creating a framework for more effective planning, budgeting, program evaluation, and fiscal accountability for Federal programs. The intent of the Act is to improve public confidence by holding departments and agencies accountable for achieving program results. Departments must set program goals and objectives and measure and report on their achievements. One important source of program information on successes and lessons learned is the project evaluation and other information collected under individual grants.

The U.S. Department of Education supports the GPRA initiative that all agencies be held accountable for program success and is committed to forging a partnership with grantees that will ensure accountability in the use of Goals 2000 funds. To assist grantees in the process of creating an instrument for evaluating program goals and achievements, the form titled “Performance Measures Template” is included in the application package. The Template identifies the key components for measuring performance (Performance Objective, Baseline, Source of Data, Outcome) and gives an example of each component. Applicants are encouraged to incorporate the components of the objectives described in their performance plans into the template; applicants may also use another similar format. It is important, however, that all applications are not only developed to achieve successful project outcomes, but that they also include a process to measure progress toward attaining those outcomes.

The performance measures will be used during the life of the grant to ensure that project outcomes are achieved. Progress will be assessed via regularly scheduled communication, which may include telephone calls, letters, and site visits, between Department staff and the project director. Where sufficient progress is not being achieved, the Department and the grantee will work together to identify strategies and resources to overcome challenges and resolve problems. When necessary, the Department and the grantee may modify the performance measures.

Performance Measures Template

Comprehensive Local Reform Assistance Grant (Goals 2000: Educate America Act, Title III)

State:

District:

PR#: S317A980

Consortium members (if applicable):

I1-2

I1-2

I1-2

Performance objective | Source of data | Baseline | Outcome
Teacher Training:
As a result of providing training to all teachers regarding the use of test data to make instructional decisions, by the conclusion of the 1999-2000 school year, 75% of teachers in the district in the elementary grades will be proficient in using test data to inform instruction | A survey of teachers will be made to assess teacher proficiency in using test data to inform decisions about instruction; teachers' lesson plans will be examined for evidence of test data driven instruction; and school administrators will observe the implementation of such instruction in the classroom | 25% of district elementary teachers surveyed in 1998 reported that they were proficient in using test data to inform instructional decision making | At least 75% of teachers will provide instruction, as indicated in their lesson plans, that has been differentiated according to student proficiency revealed in the test data.

Goals 2000 Comprehensive Local Reform Assistance Q & A

Introduction

The following questions and answers have been prepared to assist local educational agencies (LEAs) as they apply for and use funds available under Goals 2000, and as they develop and implement their local comprehensive improvement plans. This guidance should be read as a supplement to the Application Notice, and does not replace any of the information contained in the Notice. Please read the Notice carefully to ensure that your application addresses all requirements.

In 1994, the Goals 2000: Educate America Act was signed into law. The purpose of the Act is “to improve the quality of education for all students by improving student learning through a long-term, broad-based effort to promote coherent and coordinated improvements in the system of education throughout the Nation at the State and local levels.” Through Title III of this Act, states receive funding to develop and implement comprehensive plans for improving education and provide subgrants to districts to develop and implement plans that are coordinated with the state plan. In 1995, the states of Montana and Oklahoma elected to not participate in Goals 2000.

On April 26, 1996, the President signed into law the Omnibus Consolidated Rescissions and Appropriations Act of 1996, which amended portions of Titles II and III of the Goals 2000: Educate America Act. Under the Goals 2000 amendments, LEAs in a state that was not participating in Goals 2000 as of October 25, 1995 may apply directly to the Department for a portion of their state's Goals 2000 allotment, if the state educational agency (SEA) approves participation of its LEAs in the program. The Montana and Oklahoma SEAs have allowed their LEAs to participate in the competition for funding. The grants will be made for a two-year period.

Application Facts

• Who is eligible to apply for funding?

Eligible applicants are LEAs as defined in Section 14101(18) of the Elementary and Secondary Education Act of 1965. In general, if an agency is defined as an LEA for funding purposes, it meets the requirement of eligibility for this federal grant competition.

• How do eligible LEAs apply for funding?

The Secretary has published a notice in the Federal Register inviting applications from LEAs in Montana and Oklahoma. The application deadline for the grant awards is as announced in the Federal Register. The grant selection criteria and application requirements are detailed in the notice. Funds will be awarded on a competitive basis for the development and implementation of comprehensive local improvement plans, or implementation of existing plans, designed to enable all children to reach challenging academic standards.

• How much funding is available for awards?

For LEAs in Oklahoma, the amounts available from the State's FY 1999 and 2000 allotments are $5,410,428 and $5,376,407 (estimated), respectively. For LEAs in Montana, the amounts are $1,890,358 and $1,878,472 (estimated).

• How much funding can applicants request?

Included in the notice is an estimate of how many awards could be made with an estimated average award amount. These are only estimates.

The funding range provided is based on the allocations made to Montana and Oklahoma Goals 2000 grantees in the most recent competition (1998). The amount of funding an applicant requests should be related to factors such as the number of students in the district(s), the number of students in poverty or otherwise educationally disadvantaged in the district(s), the needs and proposed activities of the district in terms of implementing comprehensive standards-based reform, the expected results of such activities, and other factors that create a higher need for funds, such as high mobility of the student population and extreme isolation from other resources. Please understand that the funding provided is not for the purpose of implementing a district's entire comprehensive improvement plan. Rather, the funding is coordinated with other Federal, State, and local resources to enable the district to implement an aligned, standards-based reform plan that is designed to raise the achievement levels of all students and simultaneously narrow the gap in achievement levels by different populations within the district.

• How long should the application be?

As stated in the notice, the application narrative should not exceed 20 pages in length. Attachments, other than those that are required, should be kept to only those that are essential.

• How long will it take for the Department to review the application? Who will review the applications and how will they be reviewed? When will the awards be made?

The deadline for applications is the date announced in the Federal Register. A period of approximately two months is then needed to process the applications, conduct a peer review, and make funding decisions. The applications will be reviewed by individuals from states and districts that are familiar with the purpose of Goals 2000 grants. They will score the applications based on the seven selection criteria described in the application notice. It is anticipated that awards will be made in early June.

• What are the reporting requirements? What are the future oversight activities by the federal government for successful applicants?

LEAs are required to submit an annual report each year describing their activities and accomplishments. This information must demonstrate that the LEA is making substantial progress towards achieving its goals and objectives in order to receive second year funding. Applicants that needed to complete development of a local comprehensive improvement plan in order to meet the requirements (as noted in the application) for such plan must have a plan that meets the requirements before receiving second year funds.

In addition to report requirements, Department staff may call, visit, and/or convene multiple grantees to facilitate the use of best practices, learn what strategies are working and aren't working, and verify that the grant is being implemented according to the application. The applicant is subject to a financial audit, as is the case with any grant of federal funds.

• Will new applicants be given a competitive preference over applicants that previously received Goals 2000 funding?

No. However, the Secretary is particularly interested in receiving applications from LEAs that have not previously received Goals 2000 funding. An applicant may not receive funding to develop a local comprehensive plan for more than one year. Therefore, applicants that have previously received Goals 2000 funds must have developed the required local comprehensive plan in order to be eligible for funding in this competition. Other applicants can be funded to develop and then implement plans that meet the plan requirements.

Writing the Application

• In the application notice, there is the requirement that local comprehensive plans “address districtwide education improvement, directed at enabling all students to meet the State content standards and State student performance standards, including specific goals and benchmarks; reflect the priority of the State improvement plan (if there is a comprehensive State improvement plan).” What does this requirement mean within the particular contexts of Montana and Oklahoma?

Montana

The Office of Public Instruction (OPI) is implementing a statewide initiative for school improvement in Montana. This initiative lays out a framework for how the SEA will support districts and schools as they further student learning. The plan consists of five elements: Standards, Accreditation, Assessment, Education Profile, and Professional Development/Teacher Certification. Applicants should be aware of and align with the efforts that the State is taking within each of these project components, where appropriate. The State has informed us that as part of the standards work, the Montana Board of Public Education and OPI, in partnership with various educational organizations, has developed content and performance standards in Reading, Mathematics, World Language, Technology, Science, Writing, Health Enhancement, Speaking and Listening, Media Literacy, and Literature. The Board of Education is currently revising and preparing content and performance standards in Social Science, Workplace Competencies, and Library.

Pursuant to the application requirement that districts address districtwide improvements to meet these standards and Rule 10.55.603 of the Montana Standards of Accreditation, OPI plans to provide guidance to districts to incorporate the new content and performance standards into the curriculum, establish curriculum and assessment development processes, and meet the other requirements of the State accreditation standards. In the comprehensive improvement plan required through Goals 2000, an applicant should include other strategies to implement the standards, such as through professional development activities that are aligned to the standards (see the application notice for the specific types of strategies that must be addressed in the plan). Strategies such as professional development are critical to helping teachers develop instructional approaches to assist students meet the standards, demonstrate exemplary performance that meets the standards, and use data to determine what instructional approaches are working. The funding available through Goals 2000 can assist districts to take these critical steps to implement the state standards.

Oklahoma

The State of Oklahoma requires all districts to develop a Comprehensive Local Education Plan (CLEP) to address school improvement. In their plans, districts review implementation of the state-mandated content standards, Priority Academic Student Skills (PASS), and state performance standards as measured through the Oklahoma School Testing Program (OSTP).

Districts should address school reform identified in their CLEP in the goals 2000 application and focus on implementation of district reform. While the CLEP forms the basis of a school improvement plan, it may not fully meet the application requirements contained in the notice. (See Application Requirements section.) For example, a plan developed under Goals 2000 by a school district would include strategies for improving governance and management. Additional materials would need to be provided by the applicant to address those elements not included in the CLEP.

• How should the local comprehensive plan be related to planning requirements for all programs, federal, state, or local?

The comprehensive plan Goals 2000 supports should be the sole comprehensive plan for the district. It is not a plan for use of Goals 2000 funds; rather, it describes how the district intends to improve its schools, using all resources it has available. It is the district's framework for reform.

Other plans the district may have should fit in under the general comprehensive plan. For instance, most districts will have consolidated plans describing how they will use Federal funds provided by the programs included in the consolidation (or individual plans for each of the programs). These plans should describe how Federal funds will be used to support the comprehensive plan—the Federal contribution. Likewise, technology plans could describe, in greater detail, the role of technology in the comprehensive plan.

• How should Goals 2000 funds be used in relation to other funding sources to support the comprehensive plan?

The local comprehensive plan should provide direction for how the district uses all resources available to it. Goals 2000 resources should be focused on plan development and on implementation activities for which other funds are not available. Other resources that are targeted to a particular strategy should be accounted for first. The district can then determine the best use of the limited Goals 2000 funds. For instance, Title III funds, Technology Literacy Challenge Funds (TLCF), are for the purpose of improving the use of technology in the classroom. TLCF money could be used to provide professional development in teaching standards through the use of instructional technology. Goals 2000 funds could be used to help align curriculum with the new standards. The alignment of funds creates the potential for a greater systemic impact. Districts should consider the best use of Goals 2000 funds in the context of the local comprehensive plan, State plan/initiatives, and available resources. For instance, in Montana, other possible uses of Goals 2000 funds could be to aggregate standardized test data at the district level, disaggregate data by gender, race, socioeconomic status, etc., and thereby help districts develop a means for being eligible for Performance-Based Accreditation.

• The application requires that an applicant have a comprehensive improvement plan in place in order to implement it. Does this mean that no implementation activities can be carried out until a plan is completely developed? Do these requirements imply that a plan, once developed, is to remain unchanged while it is being implemented? What if an LEA has an existing plan that meets some, but not all, of the elements required in the legislation?

If an applicant does not have a comprehensive improvement plan that meets all of the plan requirements, its primary focus in the first year should be to develop the additional components of its plan to make it complete. In addition to these plan development activities, the applicant may use funds to implement some of the completed portions of its plan that will not be greatly affected by the other portions being developed. For instance, a district that has completed development of its standards and assessments (or uses those the state has developed) may wish to begin professional development of staff in relation to the standards while the parent involvement component of its plan is being developed.

Plan development and plan implementation are not intended to be entirely distinct activities. Once a plan has been developed that meets the plan requirements of Goals 2000, continual revision of this plan should be seen as a natural part of implementing the plan. Revisions should be informed by data collected on student performance and the effectiveness of various strategies. It is anticipated that districts may already have plans that address at least some of the requirements of Goals 2000. These plans that are already in place should serve as a starting point for continued plan development; a district need not start from scratch in developing a plan to meet the requirements. When applying for Goals 2000 funds, a district should clearly identify the status of its plans in relation to the plan requirements and the steps it will take to complete its comprehensive plan.

• What should applicants consider in determining whether to apply as a member of a consortium of districts rather than as a single district?

By working together with other districts as a consortium, a district can make better use of limited resources, improve continuity of services for students, or broaden the expertise that contributes to developing and implementing a particular set of strategies. A small district that does not have a broad base of resources could form a consortium with several other districts to create a single plan or implement a common component of individual district plans, such as professional development activities designed to help teachers create and use classroom assessments aligned to the standards. Another potentially strong consortium is one between districts that share the same students, such as an elementary district that feeds into a high school district or two K-12 district where students frequently move back and forth between the districts.

Applying in consortium provides participating districts with an opportunity to present a stronger need for funding, have higher quality strategies, and have a stronger case to meet other selection criteria for this competition. However, the purposes for a consortium, its benefit to the districts, and the commitment by participating districts should be clear. In order to meet the application requirements, a consortium application should state whether a single plan is being developed and implemented or whether a common strategy is being implemented across plans being developed and implemented within the individual districts participating in the consortium. For consortia wishing to implement existing plans, each district in a consortium should demonstrate that it has a plan to meet the plan requirements of Goals law.

• How should an applicant use the Performance Measures Template included in the application package?

Applicants should have clear and appropriate performance objectives related to the specific activities proposed in the grant. A process for measuring progress towards attaining these objectives should also be identified as well as a means for stating outcomes. Applicants are encouraged to incorporate the components of the performance measures into the template, but they may also use another, similar format. (Refer to Performance Measures and Performance Measures Template in application package.)

• Are applicants for Goals 2000 funds allowed to use grant funds to pay a consultant for writing a grant application?

No. According to a provision in the Education Department General Administrative Regulation (EDGAR, 75.515), grantees are prohibited from utilizing grant funds to pay a consultant for writing a grant application. Consultants may be used when there is a need in the approved project for services that cannot be met by an employee; however, paying a consultant to write a grant application does not meet this criterion.

• May local funds (other than federal grant funds) be used to hire a consultant to develop a grant proposal?

Yes; however, the local district should be aware that occasionally consultants use boilerplate applications. Such applications are inconsistent with the aim of Goals 2000 grants which is to support local school reform built on assessment, planning, and improvement efforts that are tied to individual districts.

Resources For Assistance

U.S. Department of Education: Goals 2000 office

For assistance with application requirements: Marcia J. Kingman, Goals 2000/TLCF, U.S. Department of Education, Phone: (202) 401-3900, Fax: (202) 205-5870, e-mail: marcia_kingman@ed.gov.

Districts in Oklahoma

For assistance with state initiatives: Dr. Katie Dunlap, Assistant State Superintendent, Oklahoma State Department of Education, Phone: (405) 521-4513, Fax: (405) 521-2971, Katie_Dunlap@mail.sde.state.ok.us.

Districts in Montana

Nancy Coopersmith, Administrator, Department of Curriculum Services, Montana Office of Public Instruction, Phone: (406) 444-5541, Fax: (406) 444-1373, e-mail: ncoopersmith@state.mt.us.

For assistance with standards-based reform: Dr. Belinda Biscoe, Director, Region VII Comprehensive Center, University of Oklahoma, College of Continuing Education, Phone: (405) 325-1729, Fax: (405) 325-1824, e-mail: bbiscoe123@aol.com; Rita Hale, Training Associate, Northwest Regional Assistance, Phone: (800) 547-6339 , Fax: (503) 275-9625, e-mail: haler@nwrel.org.

For assistance with integrating technology with standards-based reform: Dr. Jerry Chafin, Director, South Central Regional Technology In Education Consortium, Phone: (785) 864-0699, Fax: (785) 864-0704, e-mail: info@scrtec.org; Seymour Hanfling, Director, Northwest Educational Technology Consortium, Phone: (503) 275-0658, (800) 211-9435 (voice mail), Fax: (503) 275-0449, e-mail: netc@nwrel.org.

For assistance with understanding and linking to other federal resources: http://www.ed.gov.

[FR Doc. 00-3509 Filed 2-14-00; 8:45 am]

BILLING CODE 4000-01-U